Title 3—

The President

Memorandum of March 21, 2016

Building National Capabilities for Long-Term Drought Resilience

Memorandum for the Heads of Executive Departments and Agencies

By the authority vested in me as President by the Constitution and the laws of the United States of America, I hereby direct the following:

Section 1. Purpose. Our Nation must sustain and expand efforts to reduce the vulnerability of communities to the impacts of drought. Every year, drought affects millions of Americans and poses a serious and growing threat to the security and economies of communities nationwide. Drought presents challenges to the viability of agricultural production and to the quantity and quality of drinking water supplies that communities and industries depend upon. Drought jeopardizes the integrity of critical infrastructure, causes extensive economic and health impacts, harms ecosystems, and increases energy costs. In responding to and recovering from past droughts, we have learned that focused collaboration across all levels of government and the private sector is critical to enable productive and workable solutions to build regional resilience to drought.

Among other actions, this memorandum institutionalizes the National Drought Resilience Partnership (NDRP), which builds upon the National Integrated Drought Information System, an interagency program led by the Department of Commerce. The NDRP was outlined in the President's Climate Action Plan to better coordinate Federal support for drought-related efforts, help communities reduce the impact of current drought events, and prepare for future droughts. In sustaining this focused collaboration, the NDRP will provide the Federal Government with a lasting platform that enables locally and regionally driven priorities and needs to guide coordinated Federal activities.

Sec. 2. Policy. It is the policy of the Federal Government to coordinate and use applicable Federal investments, assets, and expertise to promote drought resilience and complement drought preparedness, planning, and implementation efforts of State, regional, tribal, and local institutions. In addition, where appropriate, the Federal Government shall seek partnerships with such institutions and the private sector in order to increase and diversify our Nation's water resources through the development and deployment of new technologies and improved access to alternative water supplies. Agencies shall also work with State, regional, tribal, and local institutions to support their efforts to maintain and enhance the long-term health and resilience of working lands and ecosystems. In carrying out this memorandum, executive departments and agencies (agencies) shall continue to recognize the primacy of States, regions, tribes, and local water users in building their resilience to drought.

Sec. 3. Drought Resilience Goals. (a) The heads of agencies shall, to the extent permitted by law and to the maximum extent possible, carry out the policy described in section 2 of this memorandum by implementing policies and taking actions to achieve the following drought resilience goals:

(i) Data Collection and Integration. Agencies shall share data and information related to drought, water use, and water availability, including data on snowpack, groundwater, stream flow, and soil moisture with State, regional, tribal, and local officials to strengthen decisionmaking to support more adaptive responses to drought and drought risk.

(ii) Communicating Drought Risk to Critical Infrastructure. Agencies shall communicate with State, regional, tribal, local, and critical infrastructure officials, targeted information about drought risks, including specific risks to critical infrastructure.

(iii) Drought Planning and Capacity Building. Agencies shall assist State, regional, tribal, and local officials in building local planning capacity for drought preparedness and resilience.

(iv) Coordination of Federal Drought Activity. Agencies shall improve the coordination and integration of drought-related activities to enhance the collective benefits of Federal programs and investments.

(v) Market-Based Approaches for Infrastructure and Efficiency. Agencies shall support the advancement of innovative investment models and market-based approaches to increase resilience, flexibility, and efficiency of water use and water supply systems.

(vi) Innovative Water Use, Efficiency, and Technology. Agencies shall support efforts to conserve and make efficient use of water by carrying out relevant research, innovation, and international engagements.

(b) The NDRP, as described in section 5 of this memorandum, shall facilitate, coordinate, and monitor the implementation of the actions conducted to achieve these goals.

Sec. 4. Drought Resilience Actions. In furtherance of the policies and goals described in this memorandum, I hereby direct agencies to take, subject to the availability of appropriations, by December 31, 2016, the following actions:

(a) Data Collection and Integration.

(i) The heads of agencies participating in the NDRP shall:

(A) improve the integration of all relevant drought-related data and information, and facilitate the use of such data, in coordination with the National Integrated Drought Information System, by State, regional, tribal, and local officials in drought planning and decisionmaking; and

(B) identify and use data formats that will allow these datasets to be incorporated into existing geospatial data platforms.

(ii) The Secretaries of the Interior, Agriculture, Commerce, and the Director of the Office of Science and Technology Policy shall coordinate the implementation of the activities described in section 4(a)(i) of this memorandum.

(b) Drought Planning and Capacity Building.

(i) The heads of agencies participating in the NDRP shall:

(A) provide technical and scientific information to State, regional, tribal, and local officials concerning the integration of drought planning, hazard mitigation, and preparedness planning; and

(B) ensure that local and regional officials are aware of drought-related planning activities and similar initiatives occurring in their region, which will avoid duplication of effort and prompt peer-to-peer collaboration.

(ii) The Secretaries of the Interior, Agriculture, Commerce, and Homeland Security shall coordinate the implementation of the activities described in section 4(b)(i) of this memorandum.

(c) Communicating Drought Risk to Critical Infrastructure.

(i) The heads of agencies participating in the NDRP shall:

(A) support information gathering and analysis to assess the risk of drought to critical infrastructure; and

(B) use the assessment described in section 4(c)(ii) of this memorandum to inform agencies and to better communicate accurate, science-based information about drought, and the risks of drought to communities, critical infrastructure owners and operators, and other drought resilience stakeholders.

(ii) The Secretaries of Commerce and Homeland Security shall coordinate the implementation of the activities described in section 4(c)(i) of this memorandum and jointly publish an assessment describing the risk that drought poses to U.S. critical infrastructure.

(d) Coordination of Federal Drought Activity.

(i) The heads of agencies participating in the NDRP shall:

(A) coordinate and use Federal programs and investments to better support drought resilience through improved information sharing and collaboration, building on existing place-based and program coordination efforts; and

(B) develop tools, guidance, and other relevant resources to ensure drought-related support to State, regional, tribal, and local officials occurs in an effective and efficient manner.

(ii) The Secretaries of the Interior, Agriculture, Commerce, and the Army shall coordinate the implementation of the activities described in section 4(d)(i) of this memorandum.

(e) Market-Based Approaches for Infrastructure and Efficiency.

(i) The heads of agencies participating in the NDRP shall:

(A) identify and share effective practices with State, regional, tribal, and local water users on the use of innovative financing opportunities to facilitate the construction, maintenance, rehabilitation, or restoration of drought-resilient infrastructure;

(B) test innovative financing opportunities, to the extent permitted by law, to attract private investment into underserved and drought-sensitive rural water infrastructure; and

(C) where appropriate, provide technical assistance to support State and local efforts to develop strategies for more flexible water management, including through market-based mechanisms.

(ii) The Secretaries of the Interior and Agriculture and the Administrator of the Environmental Protection Agency shall coordinate the implementation of the activities described in section 4(e)(i) of this memorandum.

(f) Innovative Water Use, Efficiency, and Technology.

(i) The heads of agencies participating in the NDRP shall:

(A) engage with foreign partners in order to establish mechanisms through which to implement relevant research, monitoring, and technical assistance to support transfer and adaptation of more water-efficient practices and technologies domestically;

(B) facilitate the development of new technologies and practices or the expansion of existing technologies and practices to mitigate the consequences of drought; and

(C) promote expanded use of technologies that allow the use of produced, reused, brackish, recycled, or other alternative water sources where possible and appropriate.

(ii) The Secretaries of State, Agriculture, Energy, the Interior, and the Environmental Protection Agency shall coordinate the implementation of the activities described in section 4(f)(i) of this memorandum.

Sec. 5. National Drought Resilience Partnership.

(a) Establishment and Function. There is established the National Drought Resilience Partnership (NDRP) as an interagency task force that is responsible for enhancing coordination of Federal drought resilience policies and monitoring the implementation of the activities and goals described in this memorandum.

(b) Administration of the NDRP. The NDRP administrative functions will be housed within the Department of Agriculture, which shall provide funding and administrative support for the NDRP to the extent permitted by law and within existing appropriations.

(c) Membership. The NDRP shall consist of representatives, serving at the Assistant Secretary-level or higher, from the following:

(i) the Department of Defense, Office of the Secretary of Defense-Policy;

(ii) the Department of the Interior;

(iii) the Department of Agriculture;

(iv) the Department of Commerce;

(v) the Department of Energy;

(vi) the Department of Homeland Security;

(vii) the Environmental Protection Agency;

(viii) the Office of Management and Budget;

(ix) the Office of Science and Technology Policy;

(x) the National Economic Council;

(xi) the Council on Environmental Quality;

(xii) the National Security Council staff;

(xiii) the Army; and

(xiv) such other agencies or offices as the agencies set forth above, by consensus, deem appropriate.

(d) NDRP Co-Chairs. The NDRP shall have two Co-Chairs. The Secretary of Agriculture, or the Secretary's designated representative, shall continuously serve as the first Co-Chair of the NDRP. The Secretary of Commerce, or the Secretary's designated official, shall serve as the second Co-Chair for a period of 2 years. The NDRP members shall rotate the second Co-Chair responsibility every 2 years based on majority vote among the Departments of Defense, the Interior, Commerce, Energy, Homeland Security, and the Environmental Protection Agency. Members serving as the second Co-Chair shall not serve in that role over consecutive periods. The NDRP shall meet at minimum on a quarterly basis, with additional meetings as needed.

(e) Charter. Within 90 days of the date of this memorandum, the Co-Chairs of the NDRP shall, with consensus of the members, complete a charter, which shall include any administrative policies and processes necessary to ensure the NDRP can satisfy the functions and responsibilities described in this memorandum.

(f) Reporting Requirements and Action Plan. Within 150 days of the date of this memorandum, the Co-Chairs of the NDRP shall submit a report to the Co-Chairs of the Council on Climate Preparedness and Resilience established by Executive Order 13653 of November 1, 2013. The report shall describe the activities undertaken and progress made concerning the implementation of this memorandum and shall include, to the extent necessary and applicable, information from all NDRP participants. Thereafter, the Co-Chairs of the NDRP shall provide updates on the implementation of the goals described in section 3 of this memorandum to the Council on Climate Preparedness and Resilience following the NDRP's quarterly meetings, and annually in the National Preparedness Report, established in Presidential Policy Directive-8 or other appropriate annual reports submitted to the President.

(g) Long-Term Drought Resilience Action Plan. The NDRP Co-Chairs, with consensus of the NDRP agencies, shall maintain the Long-Term Drought Resilience Federal Action Plan (the “Action Plan”) and update the Action Plan as necessary. The heads of agencies participating in the NDRP shall implement the Action Plan, or any successor plan or strategy promulgated by the NDRP to guide how agencies achieve the six drought resilience goals set forth in section 3 of this memorandum.

Sec. 6. Regional Coordination and Implementation.

(a) Regional Capabilities. The heads of agencies participating in the NDRP shall establish, and utilize through their regional and field offices, cross-agency methods to coordinate Federal assistance provided to States, regions, tribes, and localities facing drought challenges. These capabilities shall be integrated with existing regional planning and coordination initiatives, including with appropriate resiliency efforts conducted by State, regional, tribal, and local drought stakeholders.

(b) Regional Engagement Coordination. In regions where complementary drought resilience activities are implemented by multiple Federal agencies, those agencies shall coordinate regional outreach strategies. Further, these agencies shall collectively coordinate regional outreach and engagement efforts with the goal of reducing duplication of effort for State, regional, tribal, and local stakeholders.

Sec. 7. Definitions. (a) “Agencies” means any authority of the United States that is an “agency” under 44 U.S.C. 3502(1), other than those considered to be independent regulatory agencies.

(b) “Critical infrastructure” has the meaning provided in section 1016(e) of the USA Patriot Act of 2001 (42 U.S.C. 5195c(e)), namely, systems and assets, whether physical or virtual, so vital to the United States that the incapacity or destruction of such systems and assets would have a debilitating impact on security, national economic security, national public health or safety, or any combination of those matters.

(c) “Drought” has the meaning provided in section 2(1) of the National Integrated Drought Information System Act of 2006 (15 U.S.C. 313d note), namely, a deficiency in precipitation that leads to a deficiency in surface or subsurface water supplies (including rivers, streams, wetlands, groundwater, soil moisture, reservoir supplies, lake levels, and snow pack); and that causes or may cause substantial economic or social impacts or substantial physical damage or injury to individuals, property, or the environment.

(d) “Drought resilience” means the ability to anticipate, prepare for, and adapt to the anticipated consequences of drought conditions, particularly long-term or extreme drought.

(e) “Resilience” means the ability to anticipate, prepare for, and adapt to changing conditions and withstand, respond to, and recover rapidly from disruptions.

Sec. 8. General Provisions. (a) This memorandum shall be implemented consistent with applicable laws, including international treaties, agreements, and obligations, and subject to the availability of appropriations.

(b) Nothing in this memorandum shall be construed to impair or otherwise affect:

(i) the authority granted by law to a department, agency, or the head thereof; or

(ii) the functions of the Director of the Office of Management and Budget relating to budgetary, administrative, or legislative proposals.

(c) This memorandum is not intended to, and does not, create any right or benefit, substantive or procedural, enforceable at law or in equity by any party against the United States, its departments, agencies, or entities, its officers, employees, or agents, or any other person.

(d) The Secretary of Agriculture is hereby authorized and directed to publish this memorandum in the Federal Register.

THE WHITE HOUSE,

Washington, March 21, 2016

[FR Doc. 2016-06901

Filed 3-24-16; 8:45 am]

Billing code 3410-10-P